DEPARTMENT OF HOMELAND SECURITY

Coast Guard

33 CFR Part 117

[Docket No. USCG-2010-0924]

Drawbridge Operation Regulations; Mystic River, Charlestown, MA

AGENCY: Coast Guard, DHS.

ACTION: Notice of temporary deviation from regulations.

SUMMARY: The Commander, First Coast Guard District, has issued a temporary deviation from the regulation governing the operation of the S99 Alford Street Bridge across the Mystic River, mile 1.4, at Charlestown, Massachusetts. The deviation allows the bridge to remain in the closed position three days in November to facilitate scheduled bridge maintenance.

DATES: This deviation is effective from 8 p.m. on November 12, 2010 through 4 a.m. on November 15, 2010.

ADDRESSES: Documents mentioned in this preamble as being available in the docket are part of docket USCG-2010-0924 and are available online at http://www.regulations.gov, inserting USCG-2010-0924 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, john.w.mcdonald@uscg.mil, or telephone (617) 223-8364. If you have questions on viewing the docket, call Renee V. Wright, Program Manager, Docket Operations, telephone 202-366-9826.

SUPPLEMENTARY INFORMATION: The S99 Alford Street Bridge, across the Mystic River at mile 1.4, at Charlestown, Massachusetts, has a vertical clearance in the closed position of 7 feet at mean high water and 16 feet at mean low water. The drawbridge operation regulations are listed at 33 CFR 117.609.

The owner of the bridge, the City of Boston, requested a temporary deviation from the regulations to facilitate scheduled bridge maintenance, replacing steel members and steel deck grid at the bridge.

Under this temporary deviation the S99 Alford Street Bridge may remain in the closed position from 8 p.m. on November 12, 2010 through 4 a.m. on November 15, 2010.

Vessels that can pass under the bridge in the closed position may do so at any time. A work barge will be located in the main navigation channel during the structural repairs to the bridge. The work barge will move out of the channel upon request by calling William Schurman, of SPS New England at 978-265-7263.

In accordance with 33 CFR 117.35(e), the bridge must return to its regular operating schedule immediately at the end of the designated time period. This deviation from the operating regulations is authorized under 33 CFR 117.35.

Dated: October 14, 2010.
Gary Kassof,
Bridge Program Manager, First Coast Guard District.

[FR Doc. 2010-26984 Filed 10-25-10; 8:45 am]

BILLING CODE 9110-04-P